DEPARTMENT OF COMMERCE

National Oceanic and Atmospheric Administration

[I.D. 060805A]

Fisheries off West Coast States and in the Western Pacific; Bottomfish Fisheries; Overfishing Determination on Bottomfish Multi-Species Stock Complex; Hawaiian Archipelago

AGENCY: National Marine Fisheries Service (NMFS), National Oceanic and Atmospheric Administration (NOAA), Commerce.

ACTION: Notice of overfishing determination.

SUMMARY: This action serves as a notice that NMFS, on behalf of the Secretary of Commerce (Secretary), has determined that overfishing is occurring on the bottomfish multi-species stock complex (bottomfish complex) around the Hawaiian Archipelago and requests the Western Pacific Fishery Management Council (Council) to take appropriate action to end this overfishing. The Council is required to take action to end overfishing within 1 year following notification by NMFS that overfishing is occurring. The intent of this notice is to inform interested persons that Hawaii's bottomfish complex is undergoing overfishing.

SUPPLEMENTARY INFORMATION: On May 27, 2005, NMFS sent the following letter to the Council that (1) notifies the Council of the determination that overfishing is occurring in the bottomfish complex around Hawaii, (2) explains the Council's obligation to act in response to a determination that overfishing is occurring, and (3) requests the Council to take appropriate action to end overfishing.

Mr. Roy Morioka, Chairman

Western Pacific Fishery Management Council

1164 Bishop Street, Suite 1400

Honolulu, HI 96813

Dear Roy,

By this letter, I advise the Western Pacific Fishery Management Council (Council) that NOAA's National Marine Fisheries Service (NMFS), on behalf of the Secretary of Commerce (Secretary), has determined that overfishing is occurring on the bottomfish multispecies stock complex (Complex) around the Hawaiian Archipelago, and to request the Council to take action to end that overfishing.

The Magnuson-Stevens Fishery Conservation and Management Act (Magnuson-Stevens Act) requires the Secretary to report annually on the status of fisheries within each regional fishery management council's geographical area of authority and identify those fisheries that are overfished or approaching a condition of being overfished (16 U.S.C. 1854(e)(1)). According to the guidelines for National Standard 1 of the Magnuson-Stevens Act (50 CFR 600.310), fishery stock status is assessed with respect to two status determination criteria, one of which is used to determine whether a stock is “overfished” and the second of which is used to determine whether the stock is subject to “overfishing.” A stock is considered to be overfished if its biomass falls below the minimum stock size threshold (MSST). A stock is subject to overfishing if the fishing mortality rate exceeds the maximum fishing mortality threshold (MFMT) for one year. The MSST and MFMT for particular stocks are specified in fishery management plans.

According to Amendment 6 Supplement to the Fishery Management Plan for the Bottomfish and Seamount Groundfish Fisheries of the Western Pacific Region (FMP), effective July 3, 2003 (68 FR 46112, August 5, 2003), the MFMT for bottomfish stock complexes managed under the FMP would be exceeded if the fishing mortality rate exceeded the rate associated with maximum sustainable yield (MSY). The most recent assessment of the Complex presented in Appendix 5 of the Bottomfish and Seamount Groundfish Fisheries of the Western Pacific Region 2003 Annual Report indicated that, based on data through 2002, fishing effort (proxy for fishing mortality) exceeded the rate associated with MSY.

Based on these assessment results, NMFS, relying on the expertise and advice of its Pacific Islands Fisheries Science Center, has determined that overfishing of the Complex is occurring around the Hawaiian Archipelago.

Appendix 5 points out that the main Hawaiian islands (MHI) is where the overfishing problem primarily occurs - "The MHI is the zone that contributes most of the problems in terms of both reduced biomass and overfishing." Therefore, it is likely that reducing fishing mortality here would be the most effective means to end overfishing in the Hawaiian Archipelago.

We look forward to working together with the Council to develop a plan to end overfishing of bottomfish.

Sincerely,

William L. Robinson

Regional Administrator

Appendix 5 of the Council's 2003 Annual Report on the Bottomfish and Seamount Groundfish Fisheries of the Western Pacific Region is available from http://www.wpcouncil.org/bottomfish.htm (See: Preliminary 2003 Annual Report, Status of Bottomfish Stocks).

Under section 304 (e) of the Magnuson-Stevens Act, the Council must take action within 1 year following notification by NMFS that overfishing is occurring. Hence, the Council is required to prepare and submit to the Secretary, by May 27, 2006, a fishery management plan amendment and proposed regulations to end overfishing in the bottomfish complex around the Hawaiian Archipelago.

Dated: June 8, 2005.
Alan D. Risenhoover,
Acting Director, Office of Sustainable Fisheries, National Marine Fisheries Service.

[FR Doc. 05-11735 Filed 6-13-05; 8:45 am]

BILLING CODE 3510-22-S